DEPARTMENT OF ENERGY

Federal Energy Regulatory Commission

Combined Notice of Filings #1

Take notice that the Commission received the following exempt wholesale generator filings:

Docket Numbers: EG21-168-000.

Applicants: CED Crane Solar, LLC.

Description: Notice of Self-Certification of CED Crane Solar, LLC.

Filed Date: 6/15/21.

Accession Number: 20210615-5065.

Comments Due: 5 p.m. ET 7/6/21.

Take notice that the Commission received the following electric rate filings:

Docket Numbers: ER16-2462-010.

Applicants: Oregon Clean Energy, LLC.

Description: Notice of Non-Material Change in Status of Oregon Clean Energy, LLC.

Filed Date: 6/14/21.

Accession Number: 20210614-5170.

Comments Due: 5 p.m. ET 7/6/21.

Docket Numbers: ER19-2462-004; ER10-2630 003; ER16-1914 003; ER18-2264 007.

Applicants: Macquarie Energy LLC, Macquarie Energy Trading LLC, NGP Blue Mountain I LLC, Patua Acquisition Company, LLC.

Description: Response to May 14, 2021 Deficiency Letter of Macquarie Energy LLC, et al.

Filed Date: 6/14/21.

Accession Number: 20210614-5169.

Comments Due: 5 p.m. ET 7/6/21.

Docket Numbers: ER20-1455-003.

Applicants: Cordova Energy Company LLC.

Description: Report Filing: Reactive Refund Report to be effective N/A.

Filed Date: 6/11/21.

Accession Number: 20210611-5119.

Comments Due: 5 p.m. ET 7/2/21.

Docket Numbers: ER20-1936-003.

Applicants: Walnut Ridge Wind, LLC.

Description: Report Filing: Reactive Refund Report to be effective N/A.

Filed Date: 6/11/21.

Accession Number: 20210611-5117.

Comments Due: 5 p.m. ET 7/2/21.

Docket Numbers: ER21-1690-001.

Applicants: Tri-State Generation and Transmission Association, Inc., Southwest Power Pool, Inc.

Description: Tariff Amendment: Tri-State's Amended Normalization Filing to be effective 6/15/2021.

Filed Date: 6/11/21.

Accession Number: 20210611-5025.

Comments Due: 5 p.m. ET 6/28/21.

Docket Numbers: ER21-2136-000.

Applicants: Southwest Power Pool, Inc.

Description: § 205(d) Rate Filing: Revisions to Modify the Megawatt Mile Procedure to be effective 8/15/2021.

Filed Date: 6/15/21.

Accession Number: 20210615-5037.

Comments Due: 5 p.m. ET 7/6/21.

Docket Numbers: ER21-2137-000.

Applicants: IR Energy Management LLC.

Description: Baseline eTariff Filing: Application for Market-Based Rate Authorization to be effective 8/15/2021.

Filed Date: 6/15/21.

Accession Number: 20210615-5048.

Comments Due: 5 p.m. ET 7/6/21.

Docket Numbers: ER21-2138-000.

Applicants: Southwest Power Pool, Inc.

Description: § 205(d) Rate Filing: 1518R21 Arkansas Electric Cooperative Corp NITSA NOA to be effective 8/1/2021.

Filed Date: 6/15/21.

Accession Number: 20210615-5053.

Comments Due: 5 p.m. ET 7/6/21.

Take notice that the Commission received the following qualifying facility filings:

Docket Numbers: QF21-408-000.

Applicants: Safari Energy, LLC.

Description: Refund Report of Safari Energy, LLC [Freeport].

Filed Date: 6/11/21.

Accession Number: 20210611-5159.

Comments Due: 5 p.m. ET 7/2/21.

Take notice that the Commission received the following PURPA 210(m)(3) filings:

Docket Numbers: QM21-24-000.

Applicants: Consumers Energy Company.

Description: Application of Consumers Energy Company to Terminate Its Mandatory Purchase Obligation under the Public Utility Regulatory Policies Act of 1978.

Filed Date: 6/14/21.

Accession Number: 20210614-5155.

Comments Due: 5 p.m. ET 7/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2021.
Debbie-Anne A. Reese,
Deputy Secretary.

[FR Doc. 2021-13092 Filed 6-22-21; 8:45 am]

BILLING CODE 6717-01-P